FEDERAL COMMUNICATIONS COMMISSION

47 CFR Part 73

[MB Docket No. 25-131; RM-11999; DA 25-211; FR ID 284975]

Television Broadcasting Services Henderson, Nevada

AGENCY: Federal Communications Commission.

ACTION: Proposed rule.

SUMMARY: The Video Division, Media Bureau (Bureau), has before it a petition for rulemaking filed by Gray Television Licensee, LLC (Gray or Petitioner), the licensee of KVVU-TV, channel 9, Henderson, Nevada (Station or KVVU-TV). Petitioner requests that the Bureau substitute channel 9 for channel 24 at Henderson, Nevada in the Table of TV Allotments (table).

DATES: Comments must be filed on or before April 17, 2025 and reply comments on or before May 2, 2025.

ADDRESSES: Federal Communications Commission, Office of the Secretary, 45 L Street NE, Washington, DC 20554. In addition to filing comments with the FCC, interested parties should serve counsel for the Petitioner as follows: Joan Stewart, Esq., Wiley Rein LLP, 2050 M Street NW, Washington, DC 20036.

FOR FURTHER INFORMATION CONTACT: Shaun Maher, Media Bureau, at Shaun.Maher@fcc.gov, (202) 418-2324, or Mark Colombo, Media Bureau, at Mark.Colombo@fcc.gov, (202) 418-7611.

SUPPLEMENTARY INFORMATION: On May 5, 2021, the Bureau granted a petition for rulemaking submitted by Gray to substitute channel 24 for channel 9 at Henderson for KVVU-TV. On February 28, 2022, Gray was granted a construction permit for its new channel, with an expiration date of February 28, 2025. Gray no longer plans to pursue construction of the proposed channel 24 facility. Thus, Gray requests amendment of the table to allow it to continue to operate on channel 9, and proposes to specify the technical parameters of its currently licensed channel 9 facility.

We believe that the Petitioner's channel substitution proposal for KVVU-TV warrants consideration. KVVU-TV is currently operating on channel 9 and the substitution of channel 9 for channel 24 in the table will allow the Station to remain on the air and continue to provide service to viewers within its service area. Given that Gray proposes to utilize its currently licensed parameters, we believe channel 9 can be substituted for channel 24 at Henderson as proposed, in compliance with the principal community coverage requirements of § 73.618(a) of the Commission's rules (Rules), at coordinates 36-00′-25.8″ N and 115-00′-24.9″ W. In addition, we find that this channel change meets the technical requirements set forth in § 73.622(a) of the Rules.

This is a synopsis of the Commission's Notice of Proposed Rulemaking (NPRM), MB Docket No. 25-131; RM-11999; DA 25-211, adopted March 11, 2025, and released March 11, 2025. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a NPRM is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

Providing Accountability Through Transparency Act: The Providing Accountability Through Transparency Act, Public Law 118-9, requires each agency, in providing notice of a rulemaking, to post online a brief plain-language summary of the proposed rule. The required summary of this notice of proposed rulemaking is available at https://www.fcc.gov/proposed-rulemakings.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622, in the table in paragraph (j), under Nevada, revise the entry for “Henderson” to read as follows:

§ 73.622 Digital television table of allotments.

* * * * *

(j) * * *

Community | Channel No.
* * * * *
Nevada
* * * * *
Henderson | 9
* * * * *

* * * * *

[FR Doc. 2025-04414 Filed 3-17-25; 8:45 am]

BILLING CODE 6712-01-P